NUCLEAR REGULATORY COMMISSION

[Docket No. 50-0219-LR, ASLBP No. 06-844-01-LR]

Atomic Safety and Licensing Board; In the Matter of: Amergen Energy Company, LLC (License Renewal for Oyster Creek Nuclear Generating Station)

August 20, 2007.

Before Administrative Judges: E. Roy Hawkens, Chairman; Dr. Paul B. Abramson; Dr. Anthony J. Baratta

Notice of Hearing (Application for 20-year License Renewal)

This proceeding concerns the July 22, 2005 application by AmerGen Energy Company, LLC (“AmerGen”) to renew its operating license for the Oyster Creek Nuclear Generating Station (“Oyster Creek”) for twenty years beyond the current expiration date of April 9, 2009. In response to the September 15, 2005 Notice of Opportunity for Hearing (70 Fed. Reg. 54,585 (Sept. 15, 2005)), two Requests for Hearing and Petitions to Intervene were filed on November 14, 2005. One Petition was filed by the New Jersey Department of Environmental Protection [hereinafter referred to as New Jersey], and the other Petition was filed by the Nuclear Information and Resource Service, Jersey Shore Nuclear Watch, Inc., Grandmothers, Mothers and More for Energy Safety, New Jersey Public Interest Research Group, New Jersey Sierra Club, and New Jersey Environmental Federation [hereinafter referred to collectively as Citizens]. On December 9, 2005, this Atomic Safety and Licensing Board was established to preside over the proceeding.

On February 27, 2006, this Board issued a Memorandum and Order in which we (LBP-06-07, 63 NRC 188 (2006)): (1) Denied New Jersey's Request for Hearing and Petition to Intervene; ¹ and (2) granted Citizens' Request for Hearing and Petition to Intervene. We concluded that Citizens' contention was admissible to the extent it challenged AmerGen's aging management program for measuring corrosion in the sand bed region of the drywell liner (id. at 217).

¹ Although New Jersey established standing, the Board concluded that it failed to proffer an admissible contention. The Nuclear Regulatory Commission sustained the Board's ruling. CLI-07-08, 65 NRC 124 (2007); CLI-06-24, 64 NRC 111 (2006).

Subsequently, on June 6, 2006, this Board issued a Memorandum and Order in which we concluded that Citizens' contention, as admitted by the Board, was a contention of omission that had been cured as a result of newly docketed commitments by AmerGen to perform periodic ultrasonic testing (“UT”) measurements in the sand bed region of the drywell liner throughout the period of extended operation (LBP-06-16, 63 NRC 737 (2006)). Instead of dismissing the proceeding, the Board gave Citizens the opportunity to file a new contention raising one or more specific substantive challenges to AmerGen's new periodic UT program for the sand bed region (id. at 744). On June 23, Citizens submitted a Petition to file new contentions, and on October 10, this Board admitted one of the newly proffered contentions; specifically, Citizens' assertion that AmerGen's scheduled UT monitoring frequency in the sand bed region of the drywell shell during the renewal period is insufficient to maintain an adequate safety margin (LBP-06-22, 64 NRC 229, 240-44 (2006)).

This Atomic Safety and Licensing Board hereby gives notice that, pursuant to 10 CFR Part 2, Subpart L, it will convene an evidentiary hearing to receive testimony and exhibits concerning whether the frequency of AmerGen's proposed UT monitoring program for the sand bed region of the drywell shell is sufficient to maintain adequate safety margins during the period of extended operation.

A. Date, Time, and Location of Evidentiary Hearing

The evidentiary hearing in this proceeding, which will be open to the public,² will begin on Monday, September 24, 2007 at 9 a.m., and will continue day-to-day, ending no later than Wednesday, September 26 at 12 p.m., at the location specified below: Ocean County Administration Building, Room 119, 101 Hooper Avenue, Toms River, NJ 08754.

² Members of the public who plan to attend the evidentiary hearing are advised that security measures may be employed at the entrance to the facility, including searches of hand-carried items such as briefcases, backpacks, packages, etc. In addition, signs, banners, posters and displays will be prohibited because they are disruptive to the conduct of the adjudicatory process. See Procedures for Providing Security Support for NRC Public Meetings/Hearings, 66 Fed. Reg. 31,719 (June 12, 2001).

In the event that a party deems it necessary to discuss protected information at the hearing, that portion of the hearing will be closed to the public. See 10 CFR 2.390(a)(4).

B. Submitting Written Limited Appearance Statements

Any person not a party to the proceeding, including persons who are affiliated with or represented by a party, may submit to the Board at any time a written limited appearance statement setting forth his or her position on matters of concern relating to this proceeding. See 10 CFR 2.315(a). Although these statements do not constitute testimony or evidence in the proceeding, they nonetheless may assist the Board and/or the parties in their consideration of the issues. Such statements should be submitted to:

Mail: Office of the Secretary, Rulemakings and Adjudications Staff, U.S. Nuclear Regulatory Commission, Washington, DC 20555-0001,

Fax: (301) 415-1101 (verification (301) 415-1966).

E-mail: hearingdocket@nrc.gov.

In addition, using the same method of service, a copy of the written statement must be sent to the Chairman of this Licensing Board as follows:

Mail: Administrative Judge E. Roy Hawkens, c/o: Debra Wolf, Esq., Law Clerk, Atomic Safety and Licensing Board Panel, Mail Stop T-3 F23, U.S. Nuclear Regulatory Commission, Washington, DC 20555-0001.

Fax: (301) 415-5599 (verification (301) 415-6094).

E-mail: daw1@nrc.gov.

C. Availability of Documentary Information Regarding the Proceeding

Documents relating to this proceeding are available for public inspection at the Commission's Public Document Room (PDR), located at One White Flint North, 11555 Rockville Pike (first floor), Rockville, Maryland, or electronically from the publicly available records component of NRC's document system (ADAMS). ADAMS is accessible from the NRC Web site at http://www.nrc.gov/reading-rm/adams.html (Electronic Reading Room). Persons who do not have access to ADAMS or who encounter problems in accessing the documents located in ADAMS should contact the NRC PDR reference staff by telephone at (800) 397-4209 or (301) 415-4737, or by e-mail to pdr@nrc.gov.

D. Scheduling Information Updates

To the extent updated/revised scheduling information exists regarding the evidentiary hearing, it can be found on the NRC Web site at http://www.nrc.gov/public-involve/public-meetings/index.cfm or by calling (800) 368-5642, extension 5036, or (301) 415-5036.

It is so ordered.

Dated in Rockville, Maryland, on August 20, 2007.
For the Atomic Safety and Licensing Board.³
³ Copies of this Notice of Hearing were sent this date by Internet e-mail to counsel for: (1) AmerGen; (2) Citizens; (3) the NRC Staff; and (4) New Jersey.
E. Roy Hawkens,
Chairman, Administrative Judge.

[FR Doc. E7-16853 Filed 8-23-07; 8:45 am]

BILLING CODE 7590-01-P